DEPARTMENT OF ENERGY

Federal Energy Regulatory Commission

[Docket No. EL14-97-000]

Public Service Company of Colorado; Notice of Petition for Declaratory Order

Take notice that on August 26, 2014, pursuant to Rule 207(a) of the Federal Energy Regulatory Commission's (Commission) Rules of Practice and Procedure, 18 CFR 385.207(a)(2), Public Service Company of Colorado filed a petition for an order declaring: (i) The attempt of the City of Boulder, Colorado to condemn (PSCo's) transmission facilities and associated substations requires prior approval by the Commission under Federal Power Act section 203, 16 U.S.C. 824b; (ii) the Commission, when exercising its section 203 jurisdiction, will apply its longstanding criteria that consider, inter alia, the effect of the proposed transfer on rates, regulation and other relevant factors; and (iii) the Commission's exercise of its section 203 jurisdiction does not diminish the authority of the Colorado Public Utilities Commission with respect to the condemnation.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC.

There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on September 25, 2014.

Dated: August 27, 2014.
Nathaniel J. Davis, Sr.,
Deputy Secretary.

[FR Doc. 2014-20971 Filed 9-3-14; 8:45 am]

BILLING CODE 6717-01-P